DEPARTMENT OF COMMERCE

National Oceanic and Atmospheric Administration

RIN 0648-XV88

North Pacific Fishery Management Council; Public Meeting

AGENCY: National Marine Fisheries Service (NMFS), National Oceanic and Atmospheric Administration (NOAA), Commerce.

ACTION: Notice of a public meeting.

SUMMARY: The North Pacific Fishery Management Council's Gulf of Alaska (GOA) and Bering Sea/Aleutian Islands (BSAI) groundfish plan teams will meet via teleconference May 6, 2010, 12:30 p.m. Alaska Standard Time (AST) to review proposals for models to be considered for inclusion in the GOA and BSAI Pacific cod assessments.

DATES: The teleconference will be held on May 6, 2010; telephone: (907) 271-2896.

ADDRESSES: Listening sites - North Pacific Fishery Management Council, 605 W 4th Avenue, Anchorage, AK; and Alaska Fisheries Science Center, 7600 Sand Point Way N.E., Building 4, Seattle, WA.

Council address: North Pacific Fishery Management Council, 605 W. 4th Ave., Suite 306, Anchorage, AK 99501-2252.

FOR FURTHER INFORMATION CONTACT: Jane DiCosimo; North Pacific Fishery Management Council; telephone: (907) 271-2809.

SUPPLEMENTARY INFORMATION: Agenda: Review proposals for models Pacific cod stock assessments. The agenda is posted on the Council website at: http://www.alaskafisheries.noaa.gov/npfmc/

Special Accommodations

This meeting is physically accessible to people with disabilities. Requests for sign language interpretation or other auxiliary aids should be directed to Gail Bendixen, (907) 271-2809, at least 5 working days prior to the meeting date.

Dated: April 14, 2010.
Tracey L. Thompson,
Acting Director, Office of Sustainable Fisheries, National Marine Fisheries Service.

[FR Doc. 2010-8898 Filed 4-16-10; 8:45 am]

BILLING CODE 3510-22-S